NUCLEAR REGULATORY COMMISSION

[NRC-2009-0315]

Withdrawal of Regulatory Guide

AGENCY: Nuclear Regulatory Commission.

ACTION: Withdrawal of Regulatory Guide 6.3, “Design, Construction, and Use of Radioisotopic Power Generators for Certain Land and Sea Applications.”

FOR FURTHER INFORMATION CONTACT: Robert G. Carpenter, U.S. Nuclear Regulatory Commission, Washington, DC 20555-0001, telephone 301-251-7483 or e-mail Robert.Carpenter@nrc.gov.

SUPPLEMENTARY INFORMATION:

I. Introduction

The U.S. Nuclear Regulatory Commission (NRC) is withdrawing Regulatory Guide (RG) 6.3, “Design, Construction, and Use of Radioisotopic Power Generators for Certain Land and Sea Applications,” published in March 1974. RG 6.3 provides guidance on the safe design, construction, and use of radioisotopic power generators. The NRC is withdrawing this regulatory guide because it is no longer required.

RG 6.3 supported activities requiring a license pursuant to Title 10 of the Code of Federal Regulations, Parts 30, 40, and 70. The guidance in RG 6.3 applies to types of devices that are no longer used and have been replaced by other technology. Therefore, no licensing actions for these devices are being submitted or reviewed by license reviewers and the guidance is no longer needed.

II. Further Information

The withdrawal of RG 6.3 does not alter any prior or existing licensing commitments based on its use. The guidance provided in this regulatory guide is no longer necessary. Regulatory guides may be withdrawn when their guidance is superseded by congressional action or no longer provides useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, MD 20852-2738. The PDR's mailing address is US NRC PDR, Washington, DC 20555-0001. The PDR staff can be reached by telephone at 301-415-4737 or 800-397-4209, by fax at 301-415-3548, and by e-mail to pdr.resource@nrc.gov.

Regulatory guides are not copyrighted, and NRC approval is not required to reproduce them.

Dated at Rockville, Maryland, this 29th day of June 2009.
For the Nuclear Regulatory Commission.
R.A. Jervey,
Acting Chief, Regulatory Guide Development Branch, Division of Engineering, Office of Nuclear Regulatory Research.

[FR Doc. E9-17048 Filed 7-16-09; 8:45 am]

BILLING CODE 7590-01-P